DEPARTMENT OF THE TREASURY

Internal Revenue Service

26 CFR Part 1

[REG-106486-98 and INTL-0015-91]

RIN 1545-AW33 and RIN 1545-PP78

Guidance Regarding the Treatment of Certain Contingent Payment Debt Instruments With One or More Payments That Are Denominated in, or Determined by Reference to, a Nonfunctional Currency; Correction

AGENCY: Internal Revenue Service (IRS), Treasury.

ACTION: Correction to notice of proposed rulemaking; notice of public hearing; and withdrawal of previous proposed regulations section.

SUMMARY: This document contains corrections to proposed regulations (Reg-106486-98; INTL-0015-91) that were published in the Federal Register on August 29, 2003 (68 FR 51944) regarding the treatment of contingent payment debt instruments for which one or more payments are denominated in, or determined by reference to, a currency other than the taxpayer's functional currency.

FOR FURTHER INFORMATION CONTACT: Milton Cahn at (202) 622-3860 (not a toll free number).

SUPPLEMENTARY INFORMATION:

Background

The proposed regulations that are the subject of these corrections are under Section 1275 of the Internal Revenue Code.

Need for Correction

As published, the notice of proposed rulemaking; notice of public hearing; and withdrawal of previous proposed regulations (REG-106486-98; INTL-0015-91), contains errors that may prove to be misleading and are in need of clarification.

Correction of Publication

Accordingly, the publication of the notice of proposed rulemaking, notice of public hearing; and withdrawal of previous proposed regulations (REG-106486-98; INTL-0015-91), which was the subject of FR Doc. 03-21827, is corrected as follows:

On page 51944, column 2, in the preamble under the subject heading FOR FURTHER INFORMATION CONTACT, line 2, the language “Milton Cahn at (202) 622-3870;” is corrected to read “Milton Cahn at (202) 622-3860;”.

Cynthia E. Grigsby,
Acting Chief, Publication and Regulations Branch, Legal Processing Division, Associate Chief Counsel, (Procedure and Administration).

[FR Doc. 03-29728 Filed 11-26-03; 8:45 am]

BILLING CODE 4830-01-P